DEPARTMENT OF HOMELAND SECURITY

Federal Emergency Management Agency

[Docket ID FEMA-2016-0002; Internal Agency Docket No. FEMA-B-1609]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 500 C Street SW., Washington, DC 20472, (202) 646-7659, or (email), patrick.sacbibit@fema.dhs.gov; or visit the FEMA Map Information eXchange (FMIX), online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Date: June 30, 2016.
Roy E. Wright,
Deputy Associate Administrator for Insurance and Mitigation, Department of Homeland Security, Federal Emergency Management Agency.

State and county | Location and case No. | Chief executive officer of community | Community map repository | Online location of letter of map revision | Effective date of modification | Community No.
Idaho:
Canyon | Unincorporated areas of Canyon County (16-10-0071P) | Mr. Steven J. Rule, Commissioner, Canyon County 1115 Albany Street Caldwell, ID 83605 | 1115 Albany Street, Caldwell, ID 83605 | http://www.msc.fema.gov/lomc | May 4, 2016 | 160208
Latah | Unincorporated areas of Latah County (15-10-0568P) | The Honorable Richard Walser, Chairman, Latah County Board of Commissioners, District 1 P.O. Box 8068, Moscow, ID 83843 | Latah County Courthouse, 522 South Adams Street, Moscow, ID 83843 | http://www.msc.fema.gov/lomc | Mar. 4, 2016 | 160086
Illinois:
Douglas and Moultrie | Village of Arthur (16-05-0794X) | The Honorable Matt Bernius, Board President, Village of Arthur 120 East Progress Street, Arthur, IL 61911 | Village Hall, 120 East Progress Street, Arthur, IL 61911 | http://www.msc.fema.gov/lomc | Jun. 2, 2016 | 170520
Douglas | Unincorporated areas of Douglas County (16-05-0794X) | The Honorable Don Monson, Chairman, Douglas County Board, P.O. Box 467, Tuscola, IL 61953 | County Courthouse, 401 South Center Street, Tuscola, IL 61953 | http://www.msc.fema.gov/lomc | Jun. 2, 2016 | 170194
La Salle | City of La Salle (16-05-0561P) | The Honorable Jeff Grove, Mayor, City of La Salle, 745 2nd Street, La Salle, IL 61301 | City Hall, 745 Second Street, La Salle, IL 61301 | http://www.msc.fema.gov/lomc | Jun. 13, 2016 | 170401
La Salle | City of Peru (16-05-0561P) | The Honorable Scott J. Harl, Mayor, City of Peru, 1901 4th Street, Peru, IL 61354 | City Hall, 1901 4th Street, Peru, IL 61354 | http://www.msc.fema.gov/lomc | Jun. 13, 2016 | 170406
Moultrie | Unincorporated areas of Moultrie County (16-05-0794X) | The Honorable David McCabe, Chairman, Moultrie County Board, Moultrie County Courthouse, 10 South Main Street, Sullivan, IL 61951 | County Courthouse, Planning and Zoning Department, 10 South Main Street, Suite 1, Sullivan, IL 61951 | http://www.msc.fema.gov/lomc | Jun. 2, 2016 | 170998
Indiana:
Allen | City of Fort Wayne (16-05-1027P) | The Honorable Tom Henry, Mayor, City of Fort Wayne, 200 East Berry Street, Suite 420, Fort Wayne, IN 46802 | 200 East Berry Street, Suite 150, Fort Wayne, IN 46802 | http://www.msc.fema.gov/lomc | May 3, 2016 | 180003
Allen | Unincorporated areas of Allen County (16-05-1027P) | Mr. F. Nelson Peters, Commissioner, Allen County, 200 East Berry Street, Suite 410, Fort Wayne, IN 46802 | 200 East Berry Street, Suite 150, Fort Wayne, IN 46802 | http://www.msc.fema.gov/lomc | May 3, 2016 | 180302
Lake | Town of Munster (15-05-6638P) | Mr. Dustin Anderson, Town Manager, Town of Munster, 1005 Ridge Road, Munster, IN 46321 | Town Hall, 1005 Ridge Road, Munster, IN 46321 | http://www.msc.fema.gov/lomc | Mar. 18, 2016 | 180139
Newton | Town of Kentland (16-05-0904P) | Mr. Lowell Mitchell, Town Council President, Town of Kentland, 300 North 3rd Street, Kentland, IN 47951 | Kentland Town Hall, 300 North 3rd Street, Kentland, IN 47951 | http://www.msc.fema.gov/lomc | May 5, 2016 | 180182
Kansas:
Johnson | City of Edgerton (15-07-2149P) | The Honorable Donald B. Roberts, Mayor, City of Edgerton, 404 East Nelson Street, P.O. Box 255, Edgerton, KS 66021 | 404 East Nelson Street, Edgerton, KS 66021 | http://www.msc.fema.gov/lomc | May 9, 2016 | 200162
Johnson | City of Gardner (15-07-2149P) | The Honorable Chris C. Morrow, Mayor, City of Gardner, 420 North Cherry Street, Gardner, KS 66030 | City Hall, 120 East Main Street, Gardner, KS 66030 | http://www.msc.fema.gov/lomc | May 9, 2016 | 200164
Johnson | Unincorporated areas of Johnson County (15-07-2149P) | The Honorable Ed Eilert, Chairman, Johnson County, 111 South Cherry Street, Suite 3300, Olathe, KS 66061 | 111 South Cherry Street, Suite 3500, Olathe, KS 66061 | http://www.msc.fema.gov/lomc | May 9, 2016 | 200159
Michigan:
Lapeer | Township of Marathon (15-05-4470P) | Mr. Fred Moorhouse, Supervisor, Township of Marathon, 4575 Pine Street, P.O. Box 457, Columbiaville, MI 48421 | 4575 Pine Street, Columbiaville, MI 48421 | http://www.msc.fema.gov/lomc | May 5, 2016 | 260609
Lapeer | Township of Oregon (15-05-4470P) | Mr. Eldon R. Card, Supervisor, Township of Oregon, 2525 Marathon Road, Lapeer, MI 48446 | 2525 Marathon Road, Lapeer, MI 48446 | http://www.msc.fema.gov/lomc | May 5, 2016 | 261436
Lapeer | Village of Columbiaville (15-05-4470P) | Mr. Tom Wood, President, Village of Columbiaville, 4605 Pine Street, P.O. Box 100, Columbiaville, MI 48421 | 4605 Pine Street, Columbiaville, MI 48421 | http://www.msc.fema.gov/lomc | May 5, 2016 | 260433
Minnesota:
Kandiyohi | Unincorporated areas of Kandiyohi County (15-05-8056P) | The Honorable Jim Butterfield, Chairman, Kandiyohi County Board of Commissioners, 400 Benson Avenue Southwest, Willmar, MN 56201 | H&H Services Building, 2200 23rd Street Northeast, Suite 2000, Willmar, MN 56201 | http://www.msc.fema.gov/lomc | Mar. 10, 2016 | 270629
Missouri: Independent | City of St. Louis (15-07-1507P) | The Honorable Francis D. Slay Mayor, City of St. Louis, 1200 Market Street, Room 200, St. Louis, MO 63103 | Building Division 1200 Market Street, Room 400, St. Louis, MO 63103 | http://www.msc.fema.gov/lomc | Mar. 16, 2016 | 290385
New York:
Monroe | City of Rochester (15-02-1699P) | The Honorable Lovely A. Warren, Mayor, City of Rochester, City Hall, 30 Church Street, Rochester, NY 14614 | City Hall, 30 Church Street, Rochester, NY 14614 | http://www.msc.fema.gov/lomc | Jun. 16, 2016 | 360431
Westchester | City of Yonkers (15-02-1693P) | The Honorable Mike A. Spano, Mayor, City of Yonkers, City Hall Building, 40 South Broadway, Yonkers, NY 10701 | 40 South Broadway, Yonkers, NY 10701 | http://www.msc.fema.gov/lomc | Jun. 16, 2016 | 360936
Ohio: Cuyahoga | Village of Bratenahl (15-05-6419P) | The Honorable John M. Licastro, Mayor, Village of Bratenahl, 411 Bratenahl Road, Bratenahl, OH 44108 | Village Hall, 411 Bratenahl Road, Bratenahl, OH 44108 | http://www.msc.fema.gov/lomc | May 4, 2016 | 390734
Oregon:
Clackamas | Unincorporated areas of Clackamas County (15-10-1671P) | Mr. Don Krupp, County Administrator, Clackamas County, 2051 Kaen Road, Oregon City, OR 97045 | Sunnybrook Service Center Planning Division, 9101 Southeast Sunnybrook Boulevard, Clackamas, OR 97015 | http://www.msc.fema.gov/lomc | May 5, 2016 | 415588
Lake | Unincorporated areas of Lake County (15-10-1142P) | The Honorable Dan Shoun, 2015 Commissioner, Lake County, 513 Center Street, Lakeview, OR 97630 | Lake County Courthouse, 513 Center Street, Lakeview, OR 97630 | http://www.msc.fema.gov/lomc | May 5, 2016 | 410115
Marion | Unincorporated areas of Marion County (15-10-1588P) | Mr. Sam Brentano, Commissioner, Marion County, P.O. Box 14500, Salem, OR 97309 | Department of Planning, 3150 Lancaster Drive, Northeast Salem, OR 97305 | http://www.msc.fema.gov/lomc | May 26, 2016 | 410154
Multnomah | City of Portland (15-10-1671P) | The Honorable Charlie Hales, Mayor, City of Portland, 1221 Southwest 4th Avenue, Suite 340, Portland, OR 97204 | 1221 Southwest 4th Avenue Room, 230 Portland, OR 97204 | http://www.msc.fema.gov/lomc | May 5, 2016 | 410183
Polk | City of Independence (15-10-1588P) | The Honorable John McArdle, Mayor, City of Independence, 240 Monmouth Street, Independence, OR 97351 | 240 Monmouth Street, Independence, OR 97351 | http://www.msc.fema.gov/lomc | May 26, 2016 | 410189
Umatilla | City of Pendleton (15-10-0669P) | The Honorable Phillip Houk, Mayor, City of Pendleton, City Hall, 500 Southwest Dorion Avenue, Pendleton, OR 97801 | Planning and Building Department, 500 Southwest Dorion Avenue, Pendleton, OR 97801 | http://www.msc.fema.gov/lomc | Jun. 3, 2016 | 410211
Umatilla | Unincorporated areas of Umatilla County (15-10-0669P) | The Honorable George Murdock, Board Chair, Umatilla County, Umatilla County Courthouse, 216 Southeast 4th Street, Pendleton, OR 97801 | Umatilla County Courthouse Planning Department, 216 Southeast 4th Street, Pendleton, OR 97801 | http://www.msc.fema.gov/lomc | Jun. 3, 2016 | 410204
Texas:
Dallas | City of Grand Prairie (15-06-1228P) | The Honorable Ron Jensen, Mayor, City of Grand Prairie, 317 West College Street, Grand Prairie, TX 75050 | City Development Center, 206 West Church Street, Grand Prairie, TX 75050 | http://www.msc.fema.gov/lomc | Mar. 25, 2016 | 485472
Dallas | City of Irving (15-06-1228P) | The Honorable Beth Van Duyne, Mayor, City of Irving, 825 West Irving Boulevard, Irving, TX 75060 | City Hall, 825 West Irving Boulevard, Irving, TX 75060 | http://www.msc.fema.gov/lomc | Mar. 25, 2016 | 480180
Washington: King | City of Redmond (16-10-0139P) | The Honorable John Marchione, Mayor, City of Redmond, P.O. Box 97010, Redmond, WA 98073 | City Hall, 15670 Northeast 85th Street, Redmond, WA 98052 | http://www.msc.fema.gov/lomc | May 25, 2016 | 530087
Wisconsin: Washington | Unincorporated areas of Washington County (16-05-1498P) | Mr. Herbert J. Tennies, Chairperson, Washington County, 432 East Washington Street, Suite 3029, P.O. Box 1986, West Bend, WI 53095 | 432 East Washington Street, West Bend, WI 53095 | http://www.msc.fema.gov/lomc | Jun. 2, 2016 | 550471

[FR Doc. 2016-18332 Filed 8-2-16; 8:45 am]

BILLING CODE 9110-12-P